EQUAL EMPLOYMENT OPPORTUNITY COMMISSION

Elementary-Secondary Staff Information Report

AGENCY: Equal Employment Opportunity Commission.

ACTION: Final notice of information collection under review; Elementary-Secondary Staff Information Report EEO-5.

SUMMARY: In accordance with the Paperwork Reduction Act of 1995, the Equal Employment Opportunity Commission (EEOC) announces that it has submitted the existing collection of information listed below to the Office of Management and Budget (OMB) for approval. No public comments were received in response to the EEOC's April 3, 2002 initial notice soliciting comments on the proposed collection.

DATES: Written comments on this final notice must be submitted on or before August 7, 2002.

ADDRESSES: Comments on this final notice must be submitted to Karen Lee, Policy Analyst, Office of Information and Regulatory Affairs, Office of Management and Budget, 725 17th Street NW, Washington, DC 20503, or e-mail at KFLEE@OMB.EOP.GOV. Comments should also be sent to Frances M. Hart, Executive Secretariat, Equal Employment Opportunity Commission, 10th Floor, 1801 L Street NW, Washington, DC 20507. As a convenience to commentators, the Executive Secretariat will accept comments transmitted by facsimile (“FAX”) machine. The telephone number of the FAX receiver is (202) 663-4114. (This is not a toll-free number.) Only comments of six or fewer pages will be accepted via FAX transmittal. This limitation is necessary to assure access to the equipment. Receipt of FAX transmittals will not be acknowledged, except that the sender may request confirmation of receipt by calling the Executive Secretariat staff at (202) 663-4070 (voice) or (202) 663-4074 (TDD). (These are not toll-free telephone numbers.)

FOR FURTHER INFORMATION CONTACT: Joachim Neckere, Director, Program Research and Surveys Division, 1801 L Street NW, Room 9222, Washington, DC 20507, (202) 663-4958 (voice) or (202) 663-7063 (TDD).

SUPPLEMENTARY INFORMATION: The Commission solicits public comment to enable it to:

(1) Evaluate whether the proposed collection of information is necessary for the proper performance of the Commission's functions, including whether the information will have practical utility;

(2) Evaluate the accuracy of the Commissions estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Collection Title: Elementary-Secondary Staff Information Report EEO-5.

OMB-Number: 0346-0003.

Frequency of Report: Biennial.

Type of Respondent: Public elementary and secondary school districts with 100 more employees.

Description of Affected Public: State and Local Government.

Number of Responses: 5,000.

Reporting Hours: 10,000 (revised).

Federal Cost: $80,000.

Number of Forms: 1.

The EEOC received no comment in response to that solicitation.

Abstract: Section 709(c) of Title VII of the Civil Rights Act of 1964, as amended, 42 U.S.C. 2000e-8(c), requires employers to make and keep records relevant to a determination of whether unlawful employment practices have been or are being committed and to make reports therefrom as required by the EEOC. Accordingly, the EEOC has issued regulations which set forth the reporting requirement for various kinds of employers. Public elementary and secondary schools systems and districts have been required to submit EEO-5 reports to EEOC since 1974 (biennially in even numbered years since 1982). Since 1996 each school district or system has submitted all of the district data on a single form, EEOC Form 168A. The individual school form, EEOC Form 168B, was discontinued in 1996, greatly reducing the respondent burden and cost.

EEO-5 data are used by the EEOC to investigate charges of employment discrimination against public elementary and secondary school districts. The data are used to support EEOC decisions and conciliations, and for research. The data are shared with the Department of Education (Office for Civil Rights and the National Center for Education Statistics) and the Department of Justice. Pursuant to Section 709(d) of Title VII of the Civil Rights Act of 1964, as amended, EEO-5 data are also shared with 86 State and Local Fair Employment Practices Agencies (FEPAs).

Burden Statement: The estimated number of respondents included in the EEO-5 collection is 5,000 public elementary and secondary school districts. The number of responses per respondent is one report. The annual number of responses is approximately 5,000 and the total hours per response is between one (1) and five (5) hours. Based upon the large number of school districts responding via diskette, the total response burden has been re-estimated to equal 10,000 hours each time the survey is conducted (i.e. biennially). Respondents are continued to be encouraged to report data electronic media such as magnetic tapes and diskettes.

Dated: June 28, 2002.
For the Commission.
Cari M. Dominguez,
Chair.

[FR Doc. 02-16930 Filed 7-5-02; 8:45 am]

BILLING CODE 6750-01-M